DEPARTMENT OF AGRICULTURE

Animal and Plant Health Inspection Service

[Docket No. 01-103-2]

Veterinary Services; Availability of an Environmental Assessment and Finding of No Significant Impact

AGENCY: Animal and Plant Health Inspection Service, USDA.

ACTION: Notice.

SUMMARY: We are advising the public that the Animal and Plant Health Inspection Service has prepared an environmental assessment and a finding of no significant impact for a study to determine the disappearance rate of bison fetuses in the environment. The environmental assessment provides a basis for our conclusion that the implementation of the study will not have a significant impact on the quality of the human environment. Based on the finding of no signficant impact, we have determined that an environmental impact statement need not be prepared.

ADDRESSES: Copies of the environmental assessment, the finding of no significant impact, and comments received on the environmental assessment are available for public inspection at USDA, room 1141, South Building, 14th Street and Independence Avenue SW., Washington, DC, between 8 a.m. and 4:30 p.m., Monday through Friday, except holidays. To be sure someone is there to help you, please call (202) 690-2817 before coming.

FOR FURTHER INFORMATION CONTACT: Dr. Valerie Ragan, Senior Staff Veterinarian, National Animal Health Programs Staff, VS, APHIS, 4700 River Road Unit 36, Riverdale, MD 20737-1236; (301) 734-6954.

SUPPLEMENTARY INFORMATION:

Background

The mission of Veterinary Services (VS) of the Animal and Plant Health Inspection Service (APHIS) is to protect and improve the health, quality, and marketability of domestic animals by preventing, controlling, and/or eliminating animal diseases and monitoring and promoting animal health and productivity.

Brucellosis is a contagious disease that affects animals and humans, caused by bacteria of the genus Brucella. Brucella abortus principally affects bison and cattle. In bison and cattle, brucellosis localizes in the reproductive organs and/or the udder, causing abortion or birth of weak offspring. Female cattle infected with brucellosis may suffer infertility and lowered milk production.

Brucellosis is spread when bacteria are shed in milk, aborted fetuses, afterbirth, or other reproductive tract discharges and are ingested by a susceptible animal. Cattle and bison have a tendency to sniff and lick an aborted fetus, which provides an avenue for the disease to spread if Brucella is present.

Brucellosis has caused devastating losses to farmers in the United States over the last century. It is estimated that the disease has cost the Federal Government, the States, and the livestock industry billions of dollars in direct losses and efforts to eliminate the disease. APHIS has estimated that if efforts to eradicate the disease were stopped, the costs of producing beef and milk would increase by an estimated $80 million annually in less than 10 years.

Brucellosis infection occurs in bison in Yellowstone National Park. Bison roam wild in Yellowstone National Park, and during winter and spring, some migrate outside of the park onto U.S. Forest Service and private lands. The prevention of the spread of brucellosis from bison to cattle in and around the park is an issue of concern.

VS, in cooperation with other Federal and State agencies, will conduct an 11-week study in the West Yellowstone and Gardiner areas in Montana starting in March 2002 to determine how long a bison fetus remains in the environment as a potential source of Brucella organisms before it deteriorates or is consumed by scavengers.

On November 29, 2001, we published in the Federal Register (66 FR 59555-59556, Docket No. 01-103-1) a notice announcing that an environmental assessment for a proposed study to determine the disappearance rate of bison fetuses in the environment was available for public review and comment.

We solicited comments on the environmental assessment for 30 days ending on December 31, 2001. We received 166 comments by that date, and 7 additional comments had arrived as of January 28, 2002. They were from private citizens, including Native Americans, the State of Wyoming, and animal humane associations, among others. The commenters raised issues such as the nature of brucellosis in bison, transmission of brucellosis from bison to cattle, the need for the study, the design of the study, introduction of other diseases, impacts on predators, impacts on endangered and threatened species, and cultural concerns for Native Americans.

After carefully reviewing the issues, we have determined that the environmental assessment, which we have modified in response to some of the issues raised in the comments, adequately describes the potential environmental impacts associated with the study and supports our conclusion that the proposed study will not present a significant risk to the environment. Therefore, based on the environmental assessment, we have prepared a finding of no significant impact and have determined that an environmental impact statement need not be prepared.

The environmental assessment and finding of no significant impact may be viewed on the Internet at http://www.aphis.usda.gov/ppd/es/vsdocs.html. The environmental assessment and finding of no significant impact are also available for review in our reading room (the location and hours of the reading room are listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 22nd day of February 2002.
W. Ron DeHaven,
Acting Administrator, Animal and Plant Health Inspection Service.

[FR Doc. 02-4910 Filed 2-28-02; 8:45 am]

BILLING CODE 3410-34-P